FEDERAL MARITIME COMMISSION

Sunshine Act Meeting

AGENCY HOLDING THE MEETING: Federal Maritime Commission.

TIME AND DATE: Wednesday, February 14, 2018; 10:00 a.m. EST.

PLACE: 800 N. Capitol Street NW, First Floor Hearing Room, Washington, DC.

STATUS: This meeting will be closed to the public.

MATTERS TO BE CONSIDERED:

Closed Session

1. Commission Discussion on Petition P4-16, Petition of the Coalition for Fair Port Practices for Rulemaking

CONTACT PERSON FOR MORE INFORMATION: Rachel E. Dickon, Assistant Secretary, (202) 523 5725.

Rachel E. Dickon,
Assistant Secretary.

[FR Doc. 2018-02822 Filed 2-7-18; 4:15 pm]

BILLING CODE 6731-AA-P